DEPARTMENT OF TRANSPORTATION

National Highway Traffic Safety Administration

[U.S. DOT Docket No. NHTSA-2010-0023]

Reports, Forms and Recordkeeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on April 23, 2010 (75 FR 21385-21386).

DATES: Comments must be submitted on or before February 23, 2011.

FOR FURTHER INFORMATION CONTACT: Ms. Laurie Flaherty, Program Analyst, at the National Highway Traffic Safety Administration, Office of Emergency Medical Services, NTI-140, 202-366-2705 or via e-mail at laurie.flaherty@dot.gov, 1200 New Jersey Ave., SE., W44-322, Washington, DC 20590.

SUPPLEMENTARY INFORMATION:

National Highway Traffic Safety Administration

Title: Request for Information, National 9-1-1 Program.

OMB Number: Enter Data.

Type of Request: New information collection request.

Abstract: NHTSA is proposing to issue annual RFIs seeking comments from all sources (public, private, governmental, academic, professional, public interest groups, and other interested parties) on operational priorities for the National 9-1-1 Program. The National 9-1-1 Program currently provides: Program and policy coordination across Federal agencies and support to Public Safety Answering Points and related State and local agencies for 9-1-1 deployment and operations. NHTSA intends to use the National 9-1-1 Program to work cooperatively with public and private 9-1-1 stakeholders to establish a vision for the future of 9-1-1 services in the Nation. The RFIs will solicit comments on the priorities and strategies of the National 9-1-1 Program to accomplish its functions, goals and vision. In addition, the RFIs will obtain expressions of interest in participating as partners and will request responses to specific questions, including critical 9-1-1 issues, benefits to stakeholders, available data and methods of collection. These RFIs will NOT seek comment on the 9-1-1 grant program administered by the NHTSA. The RFIs will not include requests for proposals or invitations for bids.

In order to collect information needed to develop and implement effective strategies for the National 9-1-1 Program to provide leadership, coordination, guidance and direction to the enhancement of the Nation's 9-1-1 services, NHTSA must utilize efficient and effective means of eliciting the input and opinions of its constituency groups. If approved, the proposed annual RFIs would assist the National 9-1-1 Program in addressing the myriad of issues posed by implementing new technologies in 9-1-1 services in a systematic, prioritized fashion, with active involvement of its constituency. The results of the proposed annual RFIs would be used to: (1) Identify areas to target programs and activities to achieve the greatest benefit; (2) Develop programs and initiatives aimed at cooperative efforts to enhance 9-1-1 services nationwide; and (3) to provide informational support to States, regions, and localities in their own efforts to enhance 9-1-1 services.

Affected Public: Under this proposed effort, the National 9-1-1 Program would issue annual RFIs, seeking responses to specific questions and soliciting comments on the priorities and strategies used by the National 9-1-1 Program to accomplish its functions, goals and vision, and to obtain expressions of interest in participating as partners. The various entities included in the constituency of the National 9-1-1 Program would be notified of the issuance of each RFI. Likely respondents would include companies, agencies and organizations from all of the constituency groups listed above, particularly local and State emergency communications agencies, professional and industry associations, “traditional” telecommunication service providers, “public safety/emergency” service providers and special interest advocacy organizations. Response is voluntary. The total number of respondents is estimated at 50.

Estimated Total Annual Burden: NHTSA estimates that responses to the questions included in the proposed RFIs would require an average of one hour to complete, for a total of 50 hours. The respondents would not incur any reporting costs from the information collection. The respondents also would not incur any recordkeeping burden or recordkeeping costs from the information collection.

Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on January 19, 2011.
Michael L. Brown,
Acting Associate Administrator for Research and Program Development.

[FR Doc. 2011-1363 Filed 1-21-11; 8:45 am]

BILLING CODE P